DEPARTMENT OF HOMELAND SECURITY

Coast Guard

[Docket Number USCG-2017-0033]

Waterway Suitability Assessment for Construction of a Liquefied Natural Gas Facility; Jacksonville, FL

AGENCY: Coast Guard, DHS.

ACTION: Notice and request for comments.

SUMMARY: The Coast Guard Sector Jacksonville received a Letter of Intent (LOI) and Waterways Suitability Assessment (WSA) for a Liquefied Natural Gas (LNG) facility construction project in Jacksonville, Florida. The LOI and WSA for Eagle LNG were submitted by Rodino, Inc. The Coast Guard requests comments on the proposed construction of this LNG facility, as defined by 33 CFR 127.005.

DATES: Comments and related material must be received by the Coast Guard on or before April 6, 2017.

ADDRESSES: You may submit comments identified by docket number USCG-2017-0033 using the Federal eRulemaking Portal at http://www.regulations.gov. See the “Public Participation and Request for Comments” portion of the SUPPLEMENTARY INFORMATION section for further instructions on submitting comments.

FOR FURTHER INFORMATION CONTACT: For information about this document: call or email Lieutenant Allan Storm, Sector Jacksonville, Waterways Management Division, U.S. Coast Guard; telephone (904) 714-7616, email Allan.H.Storm@uscg.mil.

I. Background and Purpose

Under 33 CFR 127.007(a), an owner or operator intending to build a new facility handling LNG, or an owner or operator planning new construction to expand or modify marine terminal operations in an existing facility handling LNG, where the construction, expansion, or modification would result in an increase in the size and/or frequency of LNG marine traffic on the waterway associated with a proposed facility or modification to an existing facility, must submit an LOI to the Captain of the Port (COTP) of the zone in which the facility is or will be located. Eagle LNG submitted an LOI and WSA on November 25, 2014, and a Follow-on WSA on November 10, 2016.

Under 33 CFR 127.009, after receiving an LOI, the COTP issues a Letter of Recommendation (LOR) as to the suitability of the waterway for LNG marine traffic to the appropriate jurisdictional authorities. The LOR is based on a series of factors outlined in 33 CFR 127.009 that relate to the physical nature of the affected waterway and issues of safety and security associated with LNG marine traffic on the affected waterway.

The purpose of this notice is to solicit public comments on the proposed construction project as submitted by Rodino, Inc. on behalf of Eagle LNG. Input from the public may be useful to the COTP with respect to developing the LOR. The Coast Guard requests comments to help assess the suitability of the associated waterway for increased LNG marine traffic as it relates to navigation, safety, and security.

On January 24, 2011, the Coast Guard published Navigation and Vessel Inspection Circular (NVIC) 01-2011, “Guidance Related to Waterfront Liquefied Natural Gas (LNG) Facilities.” NVIC 01-2011 provides guidance for owners and operators seeking approval to construct and operate LNG facilities. The Coast Guard will refer to NVIC 01-2011 for process information and guidance in evaluating the project included in the LOIs and WSAs submitted by Rodino, Inc. A copy of NVIC 01-2011 is available on the Coast Guard's Web site at http://www.uscg.mil/hq/cg5/nvic/2010s.asp.

This notice is issued under authority of 33 U.S.C. 1223-1225, Department of Homeland Security Delegation Number 0170.1(70), 33 CFR 127.009, and 33 CFR 103.205.

II. Public Participation and Request for Comments

We encourage you to submit comments on this notice for the waterway suitability assessment for the construction of this LNG facility. We will consider all submissions and may adjust our final action based on your comments. If you submit a comment, please include the docket number for this notice, indicate the specific section of this document to which each comment applies, and provide a reason for each suggestion or recommendation. More information regarding this project can be found on the following Web site: http://eaglelng.com/projects/jacksonville-fl.

Please submit comments through the Federal eRulemaking Portal at http://www.regulations.gov. If your material cannot be submitted using http://www.regulations.gov, contact the person in the FOR FURTHER INFORMATION CONTACT section of this document for alternate instructions. Documents mentioned in this notice and all public comments, are in our online docket at http://www.regulations.gov and can be viewed by following that Web site's instructions. Additionally, if you go to the online docket and sign up for email alerts, you will be notified when comments are posted or a final rule is published.

We accept anonymous comments. All comments received will be posted without change to http://www.regulations.gov and will include any personal information you have provided. For more about privacy and the docket, you may review a Privacy Act notice regarding the Federal Docket Management System in the March 24, 2005, issue of the Federal Register (70 FR 15086).

Dated: February 28, 2017.
J.F. Dixon,
Captain, U.S. Coast Guard, Captain of the Port Jacksonville.

[FR Doc. 2017-04380 Filed 3-6-17; 8:45 am]

BILLING CODE 9110-04-P